DEPARTMENT OF THE TREASURY

Internal Revenue Service

26 CFR Part 1

[REG-116567-99]

RIN 1545-AX67

Definition of Hyperinflationary Currency for Purposes of Section 988; Hearing Cancellation

AGENCY: Internal Revenue Service (IRS), Treasury.

ACTION: Cancellation of notice of public hearing on proposed rulemaking.

SUMMARY: This document provides notice of cancellation of a public hearing on proposed regulations relating to hyperinflationary currency for purposes of section 988.

DATES: The public hearing originally scheduled for Wednesday, May 17, 2000, at 10 a.m., is canceled.

FOR FURTHER INFORMATION CONTACT: Guy Traynor of the Regulations Unit, Assistant Chief Counsel (Corporate), (202) 622-7180 (not a toll-free number).

SUPPLEMENTARY INFORMATION: A notice of proposed rulemaking and notice of public hearing that appeared in the Federal Register on January 13, 2000, (65 FR 2084), announced that a public hearing was scheduled for May 17, 2000 at 10 a.m., in room 2615, Internal Revenue Building, 1111 Constitution Avenue NW., Washington, DC. The subject of the public hearing is proposed regulations under section 988, of the Internal Revenue Code. The deadline for requests to speak and outlines of oral comments expired on April 20, 2000.

The notice of proposed rulemaking and notice of public hearing, instructed those interested in testifying at the public hearing to submit a request to speak and an outline of the topics to be addressed. As of April 24, 2000, no one has requested to speak. Therefore, the public hearing scheduled for May 17, 2000, is canceled.

Cynthia E. Grigsby,
Chief, Regulations Unit, Assistant Chief Counsel (Corporate).

[FR Doc. 00-11343 Filed 5-5-00; 8:45 am]

BILLING CODE 4830-01-P